ENVIRONMENTAL PROTECTION AGENCY

[EPA-HQ-SFUND-2004-0014; FRL-8315-7]

Agency Information Collection Activities; Submission to OMB for Review and Approval; Comment Request; The 2007 National Survey of Local Emergency Planning Committees (Reinstatement); EPA ICR No. 1903.02, OMB Control No. 2050-0162

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to reinstate a previously approved collection. The ICR, which is abstracted below, describes the nature of the information collection and its estimated burden and cost.

DATES: Additional comments may be submitted on or before June 18, 2007.

ADDRESSES: Submit your comments, referencing Docket ID No. EPA-HQ-SFUND-2004-0014, to (1) EPA online using www.regulations.gov (our preferred method), by email to superfund.docket@epa.gov, or by mail to: Environmental Protection Agency, EPA Docket Center (EPA/DC), Superfund Docket, Mail Code 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Sicy Jacob, Office of Emergency Management (OEM), OSWER, Mail Code 5104A, Environmental Protection Agency, 1200 Pennsylvania Ave., NW., Washington, DC 20460; telephone number: 202-564-8019; fax number: 202-564-2625; e-mail address: jacob.sicy@epa.gov.

SUPPLEMENTARY INFORMATION: EPA has submitted the following ICR to OMB for review and approval according to the procedures prescribed in 5 CFR 1320.12. On September 13, 2005 (70 FR 54044), EPA sought comments on this ICR pursuant to 5 CFR 1320.8(d). EPA received 4 comments during the comment period, which are addressed in the ICR. Any additional comments on this ICR should be submitted to EPA and OMB within 30 days of this notice.

EPA has established a public docket for this ICR under Docket ID No. EPA-HQ-SFUND-2004-0014, which is available for online viewing at www.regulations.gov, or in person viewing at the Superfund Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Superfund Docket is 202-566-0276.

Use EPA's electronic docket and comment system at www.regulations.gov to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: The 2007 National Survey of Local Emergency Planning Committees.

ICR number: EPA ICR No. 1903.02, OMB Control No. 2050-0162.

ICR Status: This ICR is for a reinstatement of a previously approved collection. An Agency may not conduct or sponsor, and a person is not required to respond to, a collection of information, unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The U.S. Environmental Protection Agency (EPA), Office of Solid Waste and Emergency Response (OSWER), Office of Emergency Management (OEM) plans to collect information through a one-time, web-based, voluntary nationwide survey of representatives from Local Emergency Planning Committees (LEPCs). The establishment of LEPCs is required under The Emergency Planning and Community Right-to-Know Act of 1986 (EPCRA). These broad committees, composed of representatives from the public safety, health care, and industry sectors, as well as environmental and community organizations, are charged with developing and maintaining emergency plans for their communities. LEPCs foster a valuable dialogue between members of government, industry, and the public to prevent and prepare for the accidental (and terrorist-related) releases of hazardous chemicals.

This proposed information collection will build upon previous LEPC surveys, which measured levels of compliance and proactivity of LEPCs. Since the last survey in 1999, no systematic nationwide analysis of LEPC activity has been conducted. In the six years since September 11th, local emergency planning has evolved, most notably, in the amount of information that is now available to assist LEPCs in preparing for and preventing chemical emergencies.

The primary goals of this research are to: (1) Track the progress of LEPCs by assessing their current activity compared to some of the data collected in 1999 survey; and (2) probe current LEPC practices and preferences regarding several important sets of issues, including: Communications with local citizens, proactive accident prevention efforts, and the effectiveness of selected OEM products and services.

This collection will also contribute to reporting requirements of the Government Performance and Results Act (GPRA) of 1993, which stipulates that agencies evaluate program activities in terms of outputs and outcomes. This survey is necessary to evaluate whether OEM is successfully providing national leadership and assistance to local communities in preparing for and preventing chemical emergencies.

Burden Statement: The annual public reporting and recordkeeping burden for this collection of information is estimated to average 0.25 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: People who hold a leadership position on Local Emergency Planning Committees (LEPCs). It is anticipated that the majority of respondents will be LEPC chairs.

Estimated Number of Respondents: 3,500.

Frequency of Response: One time collection.

Estimated Total Annual Hour Burden: 875.

Estimated Total Annual Cost: $40,285, which is exclusively for labor, as there are no annualized capital or O&M costs.

Changes in the Estimates: As this ICR was previously discontinued, there are no currently approved burdens and costs. Accordingly, this ICR requests a new one-time labor burden of 875 hours.

Dated: May 9, 2007.
Sara Hisel-McCoy,
Acting Director, Collection Strategies Division.

[FR Doc. E7-9504 Filed 5-16-07; 8:45 am]

BILLING CODE 6560-50-P